DEPARTMENT OF COMMERCE

National Oceanic and Atmospheric Administration

50 CFR Part 648

[Docket No. 090311306-9309-01]

RIN 0648-XN88

Fisheries of the Northeastern United States; Summer Flounder, Scup, and Black Sea Bass Fisheries; 2009 Scup and Black Sea Bass Specifications; Correction

AGENCY: National Marine Fisheries Service (NMFS), National Oceanic and Atmospheric Administration (NOAA), Commerce.

ACTION: Final rule; correction.

SUMMARY: On January 2, 2009, NMFS published in the Federal Register a final rule containing final specifications for the 2009 scup and black sea bass fisheries. On six occasions in the preamble text of that rule, the English system of measurement in pounds for various iterations of the scup and black sea bass specifications were incorrectly converted into metric system of measurement equivalents. This document corrects those values to insure that the metric values are consistent with the 2009 specifications.

DATES: Effective March 27, 2009, through December 31, 2009.

FOR FURTHER INFORMATION CONTACT: Michael Ruccio, Fishery Policy Analyst, (978) 281-9104.

SUPPLEMENTARY INFORMATION: The final rule, including final quota specifications (i.e., commercial quota and recreational harvest limit) for the 2009 summer flounder, scup, and black sea bass fisheries was published in the Federal Register on January 2, 2009 (74 FR 29). On page 32, in the first column, the proposed scup Total Allowable Catch (TAC) is listed as 5,339 metric tons (mt), the TAC implemented by the final rule in the second column is listed as 5,796 mt, and the Total Allowable Landings (TAL) is listed as 4, 170 mt. In the third column, the commercial quota is listed at 3,123 mt, and the recreational harvest limit is listed as 965 mt.

The corrected values for these scup specification values are as follows: The 2009 proposed TAC is 5,307 mt, the final rule TAC is 7,049 mt, the final rule TAL is 5,071 mt, the commercial quota is 3,798 mt, and the recreational harvest limit is 1,173 mt.

The black sea bass commercial quota in the first column of page 35 is listed as 1,043 mt. The corrected value for the commercial quota is 495 mt.

Classification

Pursuant to 5 U.S.C. 553(b)(B), the Assistant Administrator finds good cause to waive prior notice and opportunity for additional public comment for this action because any delay of this action would be contrary to the public interest. As explained above, this rule corrects various metric values for the 2009 scup TAC, TAL, commercial quota, and recreational harvest limit and black sea bass commercial quota that had already been published in the Federal Register. In the final specifications rule published January 2, 2009 (74 FR 29), the various quota iterations were correctly listed in the English system of measurement. These values were inadvertently converted to the metric system utilizing the incorrect conversion factor and thus, the metric values listed in the final specifications rule are not correct or equal to the English system values. To delay this correction notice would cause confusion over the aforementioned available 2009 scup and black sea bass harvest levels because of the disparity between the English system of measurement, in pounds, and the metric expression of those same values, in metric tons that were incorrectly converted in the original specifications that published January 2, 2009 (74 FR 29). Moreover, pursuant to 5 U.S.C. 553(d), the Assistant Administrator finds good cause to waive the 30-day delay in effective date for the reasons given above. Delaying the rule for 30 days may negatively impact fishermen accustomed to referring to the metric system of measurement because the values for the aforementioned harvest levels were incorrectly converted from the English system of measurement in the final specifications. The immediate publication of the correct information will rectify any confusion on the matter of what the metric expression of the 2009 scup and black sea bass harvest levels should be.

Because prior notice and opportunity for public comment are not required for this rule by 5 U.S.C. 553, or any other law, the analytical requirements of the Regulatory Flexibility Act, 5 U.S.C. 601 et seq., are inapplicable.

This final rule is exempt from review under Executive Order 12866.

Correction

Accordingly, the final rule FR Doc. E8-31236, published on January 2, 2009 (74 FR 29), is corrected as follows:

1. On page 32:

a. In the first column, in the last paragraph, in the seventh line, “(5, 339-mt) scup Total Allowable Catch” is corrected to read “(5,307- mt) , scup Total Allowable Catch” and in the second column, in the last paragraph, in the second line, “(5,796-mt) scup TAC” is corrected to read “(7,049 -mt) scup TAC”, and in the third line, “(4,170-mt) scup TAL.”is corrected to read “(5,071- mt) scup TAL”.

b. In the third column, in the seventh line, “commercial quota of 8,373,848 lb (3,123 mt) is corrected to read “commercial quota of 8,373,848 lb (3,798 mt) and in the eighth and ninth lines, “recreational harvest limit of 2,585,952 lb (965 mt).” is corrected to read “recreational harvest limit of 2,585,952 lb (1, 173 mt).”

2. On page 35, in the first column, in the fourth line, “(1,048-mt) black sea bass TAL.” is corrected to read “(495-mt) black sea bass TAL.”

Dated: March 23, 2009
Samuel D. Rauch III,
Deputy Assistant Administrator For Regulatory Programs, National Marine Fisheries Service.

[FR Doc. E9-6898 Filed 3-26-09; 8:45 am]

BILLING CODE 3510-22-S